DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce has received requests to conduct administrative reviews of various antidumping and countervailing duty orders and findings with May anniversary dates. In accordance with the Department's regulations, we are initiating those administrative reviews. The Department of Commerce also received a request to revoke one antidumping duty order in part.

EFFECTIVE DATE: June 25, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2001), for administrative reviews of various antidumping and countervailing duty orders and findings with May anniversary dates. The Department also received a timely request to revoke in part the antidumping duty order on Ball Bearings from Germany.

Initiation of Reviews: In accordance with 19 CFR 351.221(c)(1)(i), we are initiating administrative reviews of the following antidumping and countervailing duty orders and findings. We intend to issue the final results of these reviews not later than May 31, 2003.

| Period to be reviewed
Antidumping duty proceedings
Belgium: Stainless Steel Plate in Coils, A-423-808 | 5/1/01-4/30/02
ALZ, N.V.
Brazil: Frozen Concentrated Orange Juice, A-351-605 | 5/1/01—4/30/02
Citrovita Agro Industrial Ltda/Cambuhy MC Industrial Ltda/Cambuhy Citrus Comercial e Exportadora
Branco Peres Citrus S.A.
CTM Citrus S.A.
Sucorrico S.A.
Indonesia: Extruded Rubber Thread, A-560-803 | 5/1/01-4/30/02
PT Swasthi Parama Mulya
Republic of Korea: Certain Polyester Staple Fiber, A-580-839 | 5/1/01-4/30/02
Daeyang Industrial Co., Ltd.
East Young Co., Ltd.
Estal Industry Co., Ltd.
Huvis Corporation
Keon Baek Co., Ltd.
Mijung Ind. Co., Ltd.
Sam Young Synthetics Co., Ltd.
Sunglim Co., Ltd.
Republic of Korea: Stainless Steel Plate in Coils A-580-831 | 5/1/01-4/30/02
Pohang Iron & Steel Co., Ltd.
Taiwan: Certain Polyester Staple Fiber A-583-833 | 5/1/01-4/30/02
Far Eastern Textile, Ltd.
Nan Ya Plastics Corporation, Ltd.
Taiwan: Stainless Steel Plate in Coils, A-583-830 | 5/1/01-4/30/02
Ta Chen Stainless Pipe Co., Ltd.
Yieh United Steel Corporation
The People's Republic of China: Iron Construction Castings, A-570-502 | 5/1/01-4/30/02
Mucun Foundry of Fangzi District
Turkey: Certain Welded Carbon Steel Pipe and Tube, A-489-501 | 5/1/01-4/30/02
The Borusan Group

| Period/Class or kind
Antifriction Bearings Proceedings and Firms
France: A-427-801 | 5/1/01-4/30/02.
Ringball Corporation | Ball.
SKF France S.A./Sarma (including all relevant affiliates) | Ball & Spherical.
SNR Roulements | Ball.
Germany: A-428-801 | 5/1/01-4/30/02.
FAG Kugelfischer Georg Schaefer AG | Ball.
INA-Schaeffer FG | Ball.
Paul Mueller GmbH & Co., KG | Ball.
Ringball Corporation | Ball.
Sachs Handel GmbH | Ball.
SKF GmbH | Ball.
ZF Sachs | Ball.
Torrington Nadellager GmbH | Ball.
Italy: A-475-801 | 5/1/01-4/30/02.
FAG Italia S.p.A. (including all relevant affiliates) | Ball.
Ringball Corporation | Ball.
SKF Industrie S.p.A (including all relevant affiliates) | Ball.
Japan: A-588-804 | 5/1/01-4/30/02.
Koyo Seiko Co., Ltd. | Ball.
Nachi-Fujikoshi Corporation | Ball.
Nippon Pillow Block Sales Company, Ltd. | Ball.
NSK Ltd. | Ball.
NTN Corporation | Ball.
Asahi Seiko Co., Ltd. | Ball.
Kitanihon Seiki Co., Ltd. (including all relevant affiliates) | Ball.
Sapporo Kitanihon | Ball.
Sanbi Co., Ltd. | Ball.
Jiro Okayama | Ball.
Shinyei Kaisha | Ball.
Phoenix International Corp. | Ball.
Taisei Ind., Ltd. | Ball.
Eisho Trading Co. | Ball.
Singapore: A-559-801 | 5/1/01-4/30/02.
NMB/Pelmec | Ball.
The United Kingdom: A-412-801 | 5/1/01-4/30/02.
The Barden Corporation (UK) Limited | Ball.
Countervailing Duty Proceedings
None.
Suspension Agreements
None.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: June 19, 2002.
Holly A. Kuga,
Senior Office Director, Group II, Office 4, Import Administration.

[FR Doc. 02-16015 Filed 6-24-02; 8:45 am]

BILLING CODE 3510-DS-P